DEPARTMENT OF HOMELAND SECURITY

Federal Emergency Management Agency

44 CFR Part 67

[Docket ID FEMA-2015-0001]

Final Flood Elevation Determinations

AGENCY: Federal Emergency Management Agency, DHS.

ACTION: Final rule.

SUMMARY: Base (1-percent-annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and 90 days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Dated: April 22, 2015.
Roy E. Wright,
Deputy Associate Administrator for Mitigation, Department of Homeland Security, Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Pulaski County, Arkansas, and Incorporated Areas
Docket Nos.: FEMA-B-7756 and FEMA-B-1053
Bayou Meto | Approximately 3.48 miles downstream of Southeastern Avenue | +243 | City of Jacksonville, Unincorporated Areas of Pulaski County.
| Approximately 3.87 miles downstream of Old Tom Box Road | +263
| Just upstream of Davis Ranch Road | +320
Bayou Two Prairie | At the Highway 5 intersection (county line) | +280 | Unincorporated Areas of Pulaski County.
| Approximately 1,050 feet upstream of Private Road | +314
Blue Branch | At the Bayou Two Prairie confluence | +286 | Unincorporated Areas of Pulaski County.
| Approximately 2,180 feet upstream of the Highway 89 intersection | +318
Bridge Drive | At the Bayou Meto confluence | +266 | Unincorporated Areas of Pulaski County.
| Approximately 1.35 miles upstream of Bridge Field Drive | +271
Ferndale Creek | At the Little Maumelle River confluence | +362 | Unincorporated Areas of Pulaski County.
| Approximately 1,300 feet upstream of Ferndale Road (county line) | +453
Five Mile Creek | At the Bayou Meto confluence | +248 | Unincorporated Areas of Pulaski County.
| Just upstream of Rixie Road | +252
Fletcher Creek | At the Little Maumelle River confluence | +328 | Unincorporated Areas of Pulaski County.
| Approximately 3,200 feet upstream of Walnut Grove Trail | +429
Glade Branch | Approximately 580 feet upstream of Highway 67/167 | +266 | Unincorporated Areas of Pulaski County.
| Approximately 6,300 feet upstream of the Roland Road intersection | +353
Good Earth Drain | At the Taylor Loop Creek confluence | +280 | City of Little Rock.
| At the Taylor Loop Creek divergence | +285
Isom Creek | At the Taylor Loop Creek confluence | +265 | City of Little Rock, Unincorporated Areas of Pulaski County.
| Approximately 100 feet upstream of Russ Street | +345
Jacks Bayou | Approximately 500 feet downstream of the Union Pacific Railroad intersection (county line) | +252 | City of Jacksonville, Unincorporated Areas of Pulaski County.
| Approximately 1,200 feet upstream of Peters Road | +283
Jacks Bayou Tributary 10 | At the Jacks Bayou confluence | +271 | Unincorporated Areas of Pulaski County.
| Approximately 1,800 feet upstream of Hercules Drive | +279
Kinley Creek | Approximately 8,010 feet downstream from the Garrison Road intersection | +349 | Unincorporated Areas of Pulaski County.
| Approximately 1,130 feet upstream from the Garrison Road intersection | +424
Little Maumelle River | Approximately 2,570 feet downstream from the Arkansas River confluence | +262 | Unincorporated Areas of Pulaski County.
| Approximately 5,300 feet upstream from the Carnation Lane intersection | +561
Neal Creek | At the Kinley Creek confluence | +380 | Unincorporated Areas of Pulaski County.
| Approximately 7,200 feet upstream of the Condor Road intersection | +514
Nowlin Creek | Approximately 25,098 feet upstream from the Goodson Road intersection | +495 | Unincorporated Areas of Pulaski County.
| Approximately 25,348 feet upstream from the Goodson Road intersection | +497
South Loop | Approximately 1,358 feet upstream from the Taylor Loop Creek confluence | +266 | Unincorporated Areas of Pulaski County.
| Approximately 1,801 feet downstream from the Taylor Loop Creek confluence | +299
South Split | At the South Loop confluence | +280 | Unincorporated Areas of Pulaski County.
| Approximately 194 feet downstream from the South Loop confluence | +290
Taylor Loop Creek | Approximately 475 feet downstream from the Railroad intersection | +266 | Unincorporated Areas of Pulaski County.
| Approximately 1,451 feet downstream from the Jennifer Drive intersection | +430
Tributary 4 to Little Maumelle River | At the Little Maumelle River confluence | +240 | City of Little Rock, Unincorporated Areas of Pulaski County.
| At the Cantrell Road intersection | +301
Tributary 5 to Little Maumelle River | At the Little Maumelle River confluence | +266 | Unincorporated Areas of Pulaski County.
| Approximately 120 feet downstream of Guenther Road | +282
Tributary 6 to Fletcher Creek | At the Fletcher Creek confluence | +366 | Unincorporated Areas of Pulaski County.
| Approximately 6,150 feet upstream of the Walnut Grove Road intersection | +427
Tributary 7 to Little Maumelle River | Approximately 3,275 feet downstream from the Ferndale Road intersection | +316 | Unincorporated Areas of Pulaski County.
| Approximately 12,163 feet upstream from the Ferndale Road intersection | +455
Tributary 8 to Fletcher Creek | Approximately 233 feet upstream from the Fletcher Creek confluence | +404 | Unincorporated Areas of Pulaski County.
| Approximately 3,488 feet upstream from the Autumn Blaze Trail intersection | +509
Tributary 9 to Little Maumelle River | Approximately 748 feet upstream from the Little Maumelle River confluence | +330 | Unincorporated Areas of Pulaski County.
| Approximately 1,160 feet upstream from the Garrison Road intersection | +512
White Oak Branch | Approximately 123 feet upstream from the Highway 5 intersection | +288 | Unincorporated Areas of Pulaski County.
| Approximately 6,051 feet upstream from the Mount Pleasant intersection | +329
* National Geodetic Vertical Datum.
+ North American Vertical Datum.
# Depth in feet above ground.
‸ Mean Sea Level, rounded to the nearest 0.1 meter.
ADDRESSES
City of Jacksonville
Maps are available for inspection at the City Engineer's Office, One Municipal Drive, Jacksonville, AR 72076.
City of Little Rock
Maps are available for inspection at the Department of Public Works, 701 West Markham Street, Little Rock, AR 72201.
Unincorporated Areas of Pulaski County
Maps are available for inspection at the Pulaski County Road and Bridge Department, 3200 Brown Street, Little Rock, AR 72204.
Muskegon County, MI, and Incorporated Areas
Docket No.: FEMA-B-1222
Lake Michigan | Entire shoreline within Community | +584 | Township of Fruitland, Township of Laketon.
North Channel | At the Chesapeake and Ohio Railway | +584 | City of Muskegon.
Musekgon River (flooding effects from Muskegon Lake) | Approximately 1.3 miles upstream of the Chesapeake and Ohio Railway | +584 | Township of Muskegon.
White Lake | Entire Shoreline within community | +584 | Township of Fruitland, Township of Whitehall.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
ADDRESSES
City of Muskegon
Maps are available for inspection at City Hall, 933 Terrace Street, Muskegon, MI 49440.
Township of Fruitland
Maps are available for inspection at Fruitland Township Hall, 4545 Nestrom Road, Whitehall, MI 49461.
Township of Laketon
Maps are available for inspection at Laketon Township Hall, 2735 West Giles Road, Muskegon, MI 49445.
Township of Muskegon
Maps are available for inspection at Muskegon Township Hall, 1990 Apple Avenue, Muskegon, MI 49442.
Township of Whitehall
Maps are available for inspection at Township Hall, 7644 Durham Road, Whitehall, MI 49461.

[FR Doc. 2015-11585 Filed 5-13-15; 8:45 am]

BILLING CODE 9110-12-P